NATIONAL SCIENCE FOUNDATION

Proposal Review Panel for Physics; Notice of Meeting

In accordance with the Federal Advisory Committee Act (Pub. L. 92-463, as amended), the National Science Foundation announces the following meeting.

Name: LIGO Science Education Center Partnership (SUBR), Proposal Review Panel for Physics, #1208.

Date and Time: Thursday, February 19, 2009; 8:30 a.m.-5:30 p.m.

Friday, February 20, 2009; 8 a.m.-4 p.m.

Place: Southern University of Baton Rouge, Louisiana and LIGO Livingston, Louisiana.

Type of Meeting: Partially Closed.

Contact Person: Kathleen McCloud, Program Director, Division of Physic, National Science Foundation (703) 292-8236.

Purpose of Meeting: To provide an evaluation concerning the proposal submitted to the National Science Foundation.

Tentative Agenda

Thursday, February 19, 2009

8:30 a.m.-11 a.m. Closed—Executive Session, Overview by LIGO-SUBR staff.

11 a.m.-1:30 p.m. Open—tour of LIGO Education Center and Lunch.

1:30 p.m.-2 p.m. Travel to SUBR.

2:30 p.m.-5:30 p.m. Closed—Executive Session.

Friday, February 20, 2009

8 a.m.-9 a.m. Closed—Executive Session.

9 a.m.-10:30 a.m. Open—tour of SUBR facilities.

11 a.m.-4 p.m. Closed—Executive Session with LIGO and SUBR, Close out.

Reason for Closing: The proposal contains proprietary or confidential material, including technical information on personnel. These matters are exempt under 5 U.S.C. 552b(c)(2)(4) and (6) of the Government in the Sunshine Act.

Dated: February 3, 2009.
Susanne Bolton,
Committee Management Officer.

[FR Doc. E9-2532 Filed 2-5-09; 8:45 am]

BILLING CODE 7555-01-P